DEPARTMENT OF THE INTERIOR

Bureau of Land Management

[UT-031-1430-ET; UTU 44415]

Notice of Proposed Withdrawal Extension and Opportunity for Public Meeting; Utah

AGENCY: Bureau of Land Management, Interior.

ACTION: Notice.

SUMMARY: The Bureau of Land Management, has filed an application to extend Public Land Order No. 6132 for a 20-year period. This order withdrew public land from location or entry under the mining laws to protect the Escalante Administrative Site.

DATES: Comments and requests for a public meeting must be received by January 30, 2002.

ADDRESSES: Comments and meeting requests should be sent to the Monument Manager, Grand Staircase-Escalante National Monument, 180 West 300 North, Kanab, Utah 84741.

FOR FURTHER INFORMATION CONTACT: Darrell Olsen, Realty Specialist, Escalante Field Station, P.O. Box 225, Escalante, Utah, 84726, 435-826-5611.

SUPPLEMENTARY INFORMATION: The Bureau of Land Management proposes to extend Public Land Order No. 6132 for an additional 20-year period. Public Land Order No. 6132, which expires on February 16, 2002, withdrew 40 acres from location or entry under the mining laws to protect the Bureau of Land Management's Escalante Administrative Site.

All persons who wish to submit comments, suggestions, or objections in connection with the proposed withdrawal extension may present their views in writing, by the date specified above, to the Monument Manager, Grand Staircase-Escalante National Monument, Kanab, Utah.

Notice is hereby given that an opportunity for a public meeting is afforded in connection with the proposed withdrawal extension. All interested persons who desire a public meeting for the purpose of being heard on the proposed withdrawal extension must submit a written request, by the date specified above, to the Monument Manager, Grand Staircase-Escalante National Monument, Kanab, Utah. Upon determination by the authorized officer that a public meeting will be held, a notice of the time and place will be published in the Federal Register and a newspaper at least 30 days before the scheduled date of the meeting.

The application will be processed in accordance with the regulations set forth in 43 CFR 2300.

Roger Zortman,
Deputy State Director, Division of Lands and Minerals.

[FR Doc. 01-27458 Filed 10-31-01; 8:45 am]

BILLING CODE 4310-40-P